DEPARTMENT OF ENERGY

Federal Energy Regulatory Commission

[Project No. 4784-106]

Topsham Hydro Partners Limited Partnership (L.P.); Notice of Application Tendered for Filing With the Commission and Establishing Procedural Schedule for Licensing and Deadline for Submission of Final Amendments

Take notice that the following hydroelectric application has been filed with the Commission and is available for public inspection.

a. Type of Application: New Major License.

b. Project No.: 4784-106.

c. Date Filed: August 31, 2020.

d. Applicant: Topsham Hydro Partners Limited Partnership (L.P.).

e. Name of Project: Pejepscot Hydroelectric Project.

f. Location: On the Androscoggin River in Sagadahoc, Cumberland, and Androscoggin Counties in the village of Pejepscot and the town of Topsham, Maine. The project does not affect federal lands.

g. Filed Pursuant to: Federal Power Act, 16 U.S.C. 791 (a)-825(r).

h. Applicant Contact: Mr. Tom Uncher, Vice President, Topsham Hydro Partners Limited Partnership, 339B Big Bay Rd, Queensbury, NY 12804, Telephone: 1-518-743-2018, Thomas.Uncher@brookfieldrenewable.com.

i. FERC Contact: Ryan Hansen at (202) 502-8074 or email at ryan.hansen@ferc.gov.

j. This application is not ready for environmental analysis at this time.

k. Project Description: The existing Pejepscot Project consists of: (1) A 560-foot-long, 47.5-foot-high rock and gravel-filled, timber crib overflow structure that is topped with a 5-foot-thick reinforced concrete slab; (2) a spillway consisting of five, 96-foot-long by 3-foot-high steel bascule gates; (3) a 225-acre, 3 mile-long reservoir at an elevation of 67.5 feet mean sea level (MSL); (4) a 97-foot-wide, 146-foot-long brick masonry and concrete original powerhouse integral with the dam including an integral intake structure and containing three horizontal Francis turbine-generator units with a combined rated capacity of approximately 1.58 megawatts (MW); (5) a 60-foot-wide by 115-foot-long concrete with steel frame superstructure newer powerhouse integral with the dam including an integral intake structure and containing a Kaplan turbine and a generator with a rated capacity of approximately 12.3 MW; (6) a vertical lift upstream fish passage facility consisting of a 20-foot-long, 7-foot-wide steel hopper with a sloping bottom and an 8-inch-wide, 8-foot-high V-trap inlet, a 6-foot-wide, 8-foot-high, 110-foot-long metal flume, four attraction pumps with a combined capacity of 160 cubic feet per second (cfs) and a viewing window; (7) a downstream fish passage facility consisting of two 4-foot-wide steel entry weirs with grizzly racks that pass fish through 30-inch-diameter, 185-foot-long and 24-inch-diameter, 60-foot-long outlet pipes, respectively; (8) a tailrace with a bulkhead-like gate that discharges water into the Androscoggin River approximately 25 feet downstream of the powerhouses; (9) two 900-foot-long, 15-kilovolt cable connections to substations located north and south of the powerhouses, respectively; and (10) appurtenant facilities.

The project is operated in a run-of-river mode with an average annual generation of 68.5 megawatt-hours.

l. Locations of the Application: A copy of the application is available for review at the Commission in the Public Reference Room or may be viewed on the Commission's website at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | October 2020.
Filing of recommendations, preliminary terms and conditions, and fishway prescriptions | December 2020.
Commission issues Draft EA or EIS | June 2021.
Comments on Draft EA or EIS | July 2021.
Modified terms and conditions | September 2021.
Commission issues Final EA or EIS | December 2021.

o. Final amendments to the application must be filed with the Commission no later than 30 days from the issuance date of the notice of ready for environmental analysis.

Dated: September 9, 2020.
Kimberly D. Bose,
Secretary.

[FR Doc. 2020-20309 Filed 9-14-20; 8:45 am]

BILLING CODE 6717-01-P